ADVISORY COUNCIL ON HISTORIC PRESERVATION

Notice of Meeting

AGENCY: Advisory Council on Historic Preservation.

SUMMARY: Notice is hereby given that the Advisory Council on Historic Preservation (ACHP) will meet on Tuesday, May 13, 2008. The meeting will be held in Room M09 of the Old Post Office Building, 1100 Pennsylvania Ave, NW., Washington, DC at 8 a.m. The ACHP was established by the National Historic Preservation Act of 1966 (16 U.S.C. 470 et. seq.) to advise the President and Congress on national historic preservation policy and to comment upon Federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-Federal members appointed by the President. The agenda for the meeting includes the following:

Call to Order—8 a.m.

I. Chairman's Welcome

II. Native American Activities

A. Native American Advisory Group

B. Native American Program Report

III. Archaeology Task Force

A. Proposed Policy Statement on Archaeology and Heritage Tourism

IV. Chairman's Award Presentation

V. Preserve America Program

A. Preserve America Presidential Awards

B. Preserve America Stewards Initiative

C. Preserve America/Save America's Treasures Authorizing Legislation

VI. Implementation of ACHP Recommendations from the Preserve America Summit

A. Agency Progress

B. Recommendations Implemented by the ACHP

VII. Preservation Initiatives Committee

A. Legislative Update

B. Heritage Tourism Activities

VIII. Federal Agency Programs Committee

A. National Park Service Programmatic Agreement

B. Bureau of Land Management Nationwide Programmatic Agreement

C. Standard Treatments Update

D. Section 106 Cases

a. New Orleans Cases

b. Navy Cases

VIII. Communications, Education, and Outreach Committee

A. ACHP Strategic Communications Plan

IX. Chairman's Report

A. ACHP Alumni Foundation

B. ACHP FY 2009 Budget Request

C. Transition to a New Administration

X. Executive Director's Report

XI. New Business

XII. Adjourn

Note: The meetings of the ACHP are open to the public.

If you need special accommodations due to a disability, please contact the Advisory Council on Historic Preservation, 1100 Pennsylvania Avenue, NW., Room 803, Washington, DC, 202-606-8503, at least seven (7) days prior to the meeting.

For further information: Additional information concerning the meeting is available from the Executive Director, Advisory Council on Historic Preservation, 1100 Pennsylvania Avenue, NW., #803, Washington, DC 20004.

Dated: May 5, 2008.
John Fowler,
Executive Director.

[FR Doc. E8-10355 Filed 5-8-08; 8:45 am]

BILLING CODE 4310-K6-M